Title 3—

The President

Presidential Determination No. 2002-02 of October 16, 2001

Assistance for Pakistan

Memorandum for the Secretary of State

Pursuant to the authority vested in me by section 614(a)(1) of the Foreign Assistance Act of 1961, as amended, 22 U.S.C. 2364(a)(1) (the “Act”), I hereby determine that it is important to the security interests of the United States to furnish up to $50 million for Pakistan without regard to any provision of law within the scope of section 614(a)(1) of the Act. I hereby authorize the furnishing of this assistance.

You are hereby authorized and directed to transmit this determination to the Congress and to arrange for its publication in the Federal Register.

B

THE WHITE HOUSE,

Washington, October 16, 2001.

[FR Doc. 01-26789

Filed 10-22-01; 8:45 am]

Billing code 4710-10-M